DEPARTMENT OF ENERGY

Federal Energy Regulatory Commission

Notice Soliciting Scoping Comments

December 20, 2002.

Take notice that the following hydroelectric application has been filed with the Commission and is available for public inspection:

a. Type of Application: New Major License.

b. Project No.: 2516-026.

c. Date Filed: December 17, 2001.

d. Applicant: Allegheny Energy Supply Company, LLC.

e. Name of Project: Dam No. 4 Hydro Station.

f. Location: On the Potomac River, near the Town of Shepherdstown, in Berkeley and Jefferson Counties, West Virginia.

g. Filed Pursuant to: Federal Power Act 16 U.S.C. 791(a)-825(r).

h. Applicant Contact: Charles L. Simons, Allegheny Energy Supply Company, LLC, 4350 Northern Pike, Monroeville, PA 15146, (412) 858-1675.

i. FERC Contact: Peter Leitzke, (202) 502-6059 or peter.leitzke@ferc.gov.

j. Deadline for filing scoping comments: 45 days from issuance date of this notice.

All documents (original and eight copies) should be filed with: Magalie R. Salas, Secretary, Federal Energy Regulatory Commission, 888 First Street, NE., Washington, DC 20426. Please include the project number (P-2516-026) on any comments or motions filed.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's web site, http://www.ferc.gov , under the “e-Filing” link.

k. This application is not ready for environmental analysis at this time.

l. The existing Dam No. 4 Hydro Station Project consists of: (1) A 200-foot-long, 80-foot-wide headrace; (2) a stone and concrete powerhouse containing three generating units with a total installed capacity of 1,900 kilowatts; (3) a 350-foot-long, 90-foot-wide tailrace; (4) a substation; (5) a 4.5-mile-long, 34.5-kilovolt transmission line; and (6) appurtenant facilities. The applicant estimates that the total average annual generation would be 7,886 megawatthours. All generated power is sold to Allegheny Power for use in the existing electric grid system serving West Virginia and Maryland. The project dam and reservoir are owned by the United States and operated by the National Park Service.

m. A copy of the application is available for review at the Commission in the Public Reference Room or may be viewed on the Commission's Web site at http://www.ferc.gov using the “FERRIS” link. Enter the docket number excluding the last three digits in the docket number field to access the document. For assistance, call 1-866-208-3676 or for TTY, (202) 502-8659. A copy is also available for inspection and reproduction at the address in item h above.

n. Scoping Process: The Commission staff intends to prepare a Multiple Project Environmental Assessment (MPEA) for the Dam No. 4 Hydro Station Project (FERC No. 2561-026) and the Dam No. 5 Hydro Station Project (FERC No. 2517-012) in accordance with the National Environmental Policy Act. The MPEA will consider both site-specific and cumulative environmental impacts and reasonable alternatives to the proposed action. The staff believes that combining both the projects into one environmental document would provide the best approach for analyzing potential cumulative environmental effects associated with both projects located relatively close to one another on the Potomac River.

Commission staff does not propose to conduct any on-site scoping meetings at this time. Instead, we will solicit comments, recommendations, information, and alternatives by issuing a Scoping Document (SD).

Copies of the SD outlining the subject areas to be addressed in the MPEA were distributed to the parties on the Commission's mailing list. Copies of the SD may be viewed on the web at http://www.ferc.gov using the “FERRIS” link. Enter the docket number excluding the last three digits in the docket number field to access the document. For assistance, call 1-866-208-3676 or for TTY, (202) 502-8659.

Magalie R. Salas,
Secretary.

[FR Doc. 02-32678 Filed 12-26-02; 8:45 am]

BILLING CODE 6717-01-P